SMALL BUSINESS ADMINISTRATION

Data Collection Available for Public Comments

ACTION: 60-Day notice and request for comments.

SUMMARY: The Small Business Administration (SBA) intends to request approval from the Office of Management and Budget (OMB) for the collection of information described below. The Paperwork Reduction Act (PRA) requires federal agencies to publish a notice in the Federal Register concerning each proposed collection of information before submission to OMB, and to allow 60 days for public comment in response to the notice.

DATES: Submit comments on or before April 13, 2020.

ADDRESSES: Send all comments to Mary Frias, Loan Specialist, Office of Financial Assistance, Small Business Administration, 409 3rd Street SW, Washington, DC 20416.

FOR FURTHER INFORMATION CONTACT: Mary Frias, Loan Specialist, Office of Financial Assistance, mary.frias@sba.gov, (202) 401-8234, or Curtis B. Rich, Management Analyst, (202) 205-7030, curtis.rich@sba.gov.

SUPPLEMENTARY INFORMATION: This information collection consists of SBA Form 2233, PCLP Quarterly Loan Loss Reserve Report; Form 2234 (Part A), Premier Certified Lenders Program (PCLP) Guarantee Request; Form 2234 (Part B), Supplemental Information for Premier Certified Lender Program (PCLP) Processing; and Form 2234 (Part C), Eligibility Information Required for 504 Submission (PCLP). SBA is proposing to revise this collection by cancelling Form 2234 and making minor edits to Form 2233.

Form 2233 will continue to be used by PCLP Certified Development Companies (PCLP CDCs) to report their quarterly loan loss reserves. SBA has made a few changes to the form relating to whether PCLP CDCs are using the Declining Balance Methodology in calculating its LLRF balances. This change ensures consistency with recent regulatory amendments in SBA's December 4, 2019, final rule: Streamlining and Modernizing Certified Development Company Program (504 Loan Program) Corporate Governance Requirements (84 FR 66287). SBA also made minor edits to this form to clarify reporting instructions. The burden hours to complete Form 2233 are unchanged.

With the cancellation of Form 2234 (Parts A, B, and C), SBA is proposing to incorporate the non-duplicative questions into SBA Form 1244, which is approved under OMB Control Number 3245-0071. SBA is publishing a separate Federal Register notice to address the revisions to that information collection. The specific rationale for cancelling Form 2234 (Parts A, B, and C) is as follows:

—Form 2234 (Part A): This form serves as a cover sheet for the Form 2234 (Part B). Most of the information collected on this form is collected on the current SBA Form 1244; any information that is not duplicative will be incorporated into that form.

—Form 2234 (Part B): This form collects quantifiable metrics for the application in addition to the impacts expected to be gained as a result of the project. Most of the information is already collected on Form 1244, including the credit memorandum; any non-duplicative information will be incorporated into the revised Form 1244.

—Form 2234 (Part C): This form is a checklist comprised of yes/no questions. The information collected is used to determine the eligibility of the applicant and the 504 project. The content of this form will be incorporated into the SBA Form 1244. The information collected will remain substantially unchanged. Following the cancellation of Part C, some of the information will be submitted as part of the credit memorandum, which is currently an exhibit to the SBA Form 1244, and other information will be submitted as a new exhibit to the SBA Form 1244.

Solicitation of Public Comments: SBA is requesting comments on (i) Whether the collection of information is necessary for the agency to properly perform its functions; (ii) whether the burden estimates are accurate; (iii) whether there are ways to minimize the burden, including through the use of automated techniques or other forms of information technology; and (iv) whether there are ways to enhance the quality, utility, and clarity of the information.

Summary of Proposed Information Collection

Title: PCLP Quarterly Loan Loss Reserve Report.

Form Numbers: SBA Form 2233, PCLP Quarterly Loan Loss Reserve Report.

OMB Control Number: 3245-0346.

Description of Respondents: Certified Development Companies with PCLP Status.

Estimated Number of Respondents: 15 PCLP CDCs.

Frequency of Responses Annually: 1 per quarter.

Total Estimated Annual Responses: 40 (1 report each quarter).

Total Estimated Annual Hour Burden: 20 hours.

Curtis Rich,
Management Analyst.

[FR Doc. 2020-02868 Filed 2-12-20; 8:45 am]

BILLING CODE P